DEPARTMENT OF VETERANS AFFAIRS

Joint Biomedical Laboratory Research and Development and Clinical Science Research and Development Services Scientific Merit Review Board Amended; Notice of Meeting

The Department of Veterans Affairs (VA) gives notice under Public Law 92-463; Title 5 U.S.C. App. 2 (Federal Advisory Committee Act) that the Joint Biomedical Laboratory Research and Development and Clinical Science Research and Development Services Scientific Merit Review Board (JBL/CS SMRB) teleconference meeting will convene on January 26, 2017, from 3:00 p.m. to 3:45 p.m. and will be open to the public. This Notice of Meeting is being amended due to clarification of the meeting being open.

This meeting is conducted to meet with the JBL/CS Service Directors to discuss the overall policies and process for Merit Review as well as disseminate information among the subcommittee chairs regarding the VA research priorities.

Members of the public who wish to attend the open JBL/CS SMRB teleconference may dial 1-800-767-1750, participant code 95562. Members of the public who wish to make a statement at the JBL/CS SMRB meeting must notify Dr. Alex Chiu, Designated Federal Officer, via email at alex.chiu@va.gov by January 19, 2017.

Dated: December 9, 2016.
LaTonya L. Small,
Advisory Committee Management Officer.

[FR Doc. 2016-30025 Filed 12-13-16; 8:45 am]

BILLING CODE P